DEPARTMENT OF JUSTICE

Antitrust Division

Notice Pursuant to the National Cooperative Research and Production Act of 1993—World Wide Web Consortium, Inc.

Notice is hereby given that, on March 15, 2023, pursuant to section 6(a) of the National Cooperative Research and Production Act of 1993, 15 U.S.C. 4301 et seq. (“the Act”), World Wide Web Consortium, Inc. (“W3C”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: World Wide Web Consortium, Inc., Wakefield, MA. W3C was formed as a Delaware non-stock member corporation, organized exclusively for exempt purposes within the meaning of section 501(c)(3) of the Internal Revenue Code of 1986, as amended (or the corresponding provision of any future United States Internal Revenue Law). The nature and scope of W3C's standards development activities are: In furtherance of such purposes, W3C is organized and will be operated primarily to continue the work of the unincorporated World Wide Web Consortium, with the charitable purpose of inclusively developing interoperability standards for the infrastructure of the World Wide Web (“Web”), so that all people may safely and productively use the Web to participate in society and improve their lives. W3C seeks to achieve its purpose by creating open, consensus-based Web standards and guidelines to ensure that the Web remains open, accessible, and interoperable for everyone around the globe, through processes intended to promote fairness, transparency, and accountability, and enable progress and greater responsiveness to change. Without limiting the foregoing, W3C, through its member-driven approach, will work to (a) foster a consistent architecture accommodating the rapid pace of progress in Web standards for websites, browsers, data-sharing applications, and devices to experience all that the Web has to offer; (b) provide a neutral forum where organizations around the world come together to create the technologies to most fully realize the potential of the Web; (c) ensure that all foundational Web technologies meet the needs of civil society, in areas such as accessibility, internationalization, security, and privacy; (d) provide standards that undergird the infrastructure for modern businesses leveraging the Web in areas such as entertainment, communications, digital publishing, and financial services; (e) promote advances of important associated social and economic value; and (f) promote the emergence of current and future transformative phenomena, such as social media, e-commerce, video on the web, and video conferencing.

Suzanne Morris,
Deputy Director, Civil Enforcement Operations, Antitrust Division.

[FR Doc. 2023-10207 Filed 5-11-23; 8:45 am]

BILLING CODE P